DEPARTMENT OF AGRICULTURE

Forest Service

National Urban and Community Forestry Advisory Council

AGENCY: Forest Service, USDA.

ACTION: Notice of meeting and public listening forum.

SUMMARY: The National Urban and Community Forestry Advisory Council will meet in Rio Grande, Puerto Rico on June 16-20, 2008. The purpose of the meeting is to discuss emerging issues in urban and community forestry, and conduct a one-day public listening forum on tropical urban forestry issues and opportunities on Wednesday, June 18, 2008.

DATES: The meeting will be held on June 16-20, 2008, 9 a.m. to 5 p.m. Monday thru Thursday, Friday 9 a.m. to noon.

ADDRESSES: The meeting will be held at the Gran Melia Hotel, Road #3 Sect. 955-I Coco Beach, Rio Grande, Puerto Rico 00745. Written comments concerning this meeting should be addressed to Nancy Stremple, Executive Staff to National Urban and Community Forestry Advisory Council, 1400 Independence Avenue, SW., Yates Building (1 Central) MS-1151, Washington, DC 20250-1151. Comments may also be sent via e-mail to nstremple@fs.fed.us, or via facsimile to (202) 690-5792.

All comments, including names and addresses when provided, are placed in the record and are available for public inspection and copying. The public may inspect comments received at the above address. Visitors are encouraged to call ahead to (202) 205-1054 to facilitate entry into the building.

FOR FURTHER INFORMATION CONTACT: Nancy Stremple, Executive Staff or Robert Prather, Staff Assistant to National Urban and Community Forestry Advisory Council, 1400 Independence Avenue, SW., Yates Building (1 Central) MS-1151, Washington, DC 20250-1151, phone (202) 205-1054.

Individuals who use telecommunication devices for the deaf (TDD) may call the Federal Information Relay Service (FIRS) at 1-800-877-8339 between 8 a.m. and 8 p.m., Eastern Standard Time, Monday through Friday.

SUPPLEMENTARY INFORMATION: The general business meeting (Monday, Tuesday, and Friday) is open to the public. Council discussion is limited to Forest Service staff and Council members; however, persons who wish to address the Council on urban and community forestry matters, during the business meeting, may schedule a date and time on the agenda by contacting Nancy Stremple at least two weeks prior to the meeting. Written statements may also be submitted to the attention of the Council on urban and community forestry matters before or after the meeting.

On Wednesday, June 18, 2008, the public listening forum will be held on tropical urban forestry issues and opportunities from 9 a.m. to 4 p.m. and is open for public participation. For those interested in participating in the public listening forum, please register by close of business on Thursday, June 12, 2008, with the Puerto Rico International Institute of Tropical Forestry (IITF) staff; meeting space will be limited. IITF contacts Magaly Figueroa or Aixa Mojica may be reached at (787) 766-5335 ext. 118 or 227, or via e-mail, mafigueroa@fs.fed.us, amojica@fs.fed.us.

Dated: April 26, 2008.
James Hubbard,
Deputy Chief, State and Private Forestry.

[FR Doc. E8-9761 Filed 5-2-08; 8:45 am]

BILLING CODE 3410-11-P